DEPARTMENT OF ENERGY

Federal Energy Regulatory Commission

Combined Notice of Filings

Take notice that the Commission has received the following Natural Gas Pipeline Rate and Refund Report filings:

Filings Instituting Proceedings

Docket Numbers: RP26-463-000.

Applicants: Gillis Hub Pipeline, LLC.

Description: § 4(d) Rate Filing: Filing of Negotiated Rate, Conforming IW Agreement 2.3.2026 to be effective 2/5/2026.

Filed Date: 2/3/26.

Accession Number: 20260203-5092.

Comment Date: 5 p.m. ET 2/17/26.

Docket Numbers: RP26-464-000.

Applicants: Iroquois Gas Transmission System, L.P.

Description: § 4(d) Rate Filing: 2.4.26 Negotiated Rates—Macquarie Energy LLC H-4090-89 to be effective 2/5/2026.

Filed Date: 2/4/26.

Accession Number: 20260204-5027.

Comment Date: 5 p.m. ET 2/17/26.

Docket Numbers: RP26-465-000.

Applicants: El Paso Natural Gas Company, L.L.C.

Description: § 4(d) Rate Filing: Negotiated Rate Agreement Update (Shell Feb 2026) to be effective 2/5/2026.

Filed Date: 2/4/26.

Accession Number: 20260204-5143.

Comment Date: 5 p.m. ET 2/17/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 5, 2026.
Carlos D. Clay,
Deputy Secretary.

[FR Doc. 2026-02606 Filed 2-9-26; 8:45 am]

BILLING CODE 6717-01-P